DEPARTMENT OF THE INTERIOR

Bureau of Indian Affairs

[AAK6006201 145A2100DD A0R3B3030.999900]

Final Environmental Impact Statement (FEIS) for the Proposed Los Coyotes Band of Cahuilla and Cupeňo Indians 23-Acre Fee-to-Trust Transfer and Casino-Hotel Project, City of Barstow, San Bernardino County, California

AGENCY: Bureau of Indian Affairs, Interior.

ACTION: Notice of Availability.

SUMMARY: This notice advises the public that the Bureau of Indian Affairs (BIA) as lead agency, with the Los Coyotes Band of Cahuilla and Cupeňo Indians, National Indian Gaming Commission (NIGC), U.S. Environmental Protection Agency (EPA), and the City of Barstow serving as cooperating agencies, intends to file a FEIS with the EPA for the Los Coyotes Band of Cahuilla and Cupeňo Indians Fee-to-Trust and Casino-Hotel Project proposed to be located within the City of Barstow, San Bernardino County, California, and that the FEIS is now available for public review.

DATES: The Record of Decision (ROD) on the proposed action will be issued on or after 30 days from the date the EPA publishes its Notice of Availability in the Federal Register. Any comments on the FEIS must arrive on or before 30 days following the date the EPA publishes its Notice of Availability in the Federal Register.

ADDRESSES: You may mail or hand-deliver written comments to Amy Dutschke, Regional Director, Pacific Regional Office, Bureau of Indian Affairs, 2800 Cottage Way, Sacramento, California 95825.

FOR FURTHER INFORMATION CONTACT: John Rydzik, Bureau of Indian Affairs, Pacific Regional Office, 2800 Cottage Way, Sacramento, California 95825. Telephone: (916) 978-6051.

SUPPLEMENTARY INFORMATION: The Los Coyotes Band of Cahuilla and Cupeňo Indians has requested that the BIA take into trust 23 acres of land on which the Tribe proposes to construct a gaming facility, hotel, parking areas and other facilities. The approximately 23-acre project site is located within the incorporated boundaries of the City of Barstow, San Bernardino County, California, just east of Interstate 15. Because this request is for land to be taken into trust for gaming purposes, the Los Coyotes Band of Cahuilla and Cupeňo Indians has submitted an application under the Indian Reorganization Act (25 U.S.C. 465 et seq. as implemented in 25 CFR part 151) and seeks a determination of gaming eligibility under the Indian Gaming Regulatory Act (25 U.S.C. 2719 et seq. as implemented in 25 CFR part 292). The FEIS supports both actions.

The proposed project includes the development of a casino with approximately 57,070 square feet of gaming floor. Associated facilities would include food and beverage services, retail space, banquet/meeting space, and administration space. Food and beverage facilities would include one full service restaurant, a “Drive-in” restaurant, a food court with four venues, a coffee shop, three service bars, and a lounge. The hotel would have approximately 100 rooms and a full service restaurant. Both the gaming facility and the hotel would be open 24 hours a day, seven days a week. A total of 1,405 parking spaces would be provided.

The following alternatives are considered in the FEIS: (A) Barstow casino and hotel complex project, (B) Barstow Reduced Casino Hotel Complex (Proposed Project described above), (C) a reduced intensity casino at a 19-acre site within the Los Coyotes Reservation, (D) a non-gaming alternative, specifically the development of a campground facility within the Los Coyotes Reservation, and (E) a no-action alternative. Alternative B has been identified as the Tribe's Preferred Alternative, as discussed in the FEIS. The information and analysis contained in the EIS, as well as its evaluation and assessment of the Tribe's Preferred Alternative, are intended to assist the Department of the Interior (Department) in its review of the issues presented in the fee-to-trust application. The Preferred Alternative does not necessarily reflect the Department's final decision because the Department must further evaluate all of the criteria listed in 25 CFR part 151 and 25 CFR part 292. The Department's consideration and analysis of the applicable regulations may lead to a final decision that selects an alternative other than the Preferred Alternative, including no action, or a variant of the Preferred or another of the alternatives analyzed in the FEIS.

Environmental issues addressed in the FEIS include land resources, water resources, air quality, biological resources, cultural resources, socioeconomic conditions, environmental justice, transportation, land use, agriculture, public services, noise, hazardous materials, visual resources, cumulative effects, indirect effects, growth inducing effects and mitigation measures.

A public scoping meeting for the DEIS was held by the BIA on May 4, 2006 at the Barstow Community College Gymnasium in Barstow, California. A Notice of Availability for the Draft EIS was published in the Federal Register on June 28, 2011 (76 FR 38677), and announced a 45 day review period ending on September 14, 2011. The BIA held a public hearing on the Draft EIS on July 27, 2011 in Barstow, California.

Directions for Submitting Comments: Please include your name, return address, and the caption, “FEIS Comments, Los Coyotes Band of Cahuilla and Cupeňo Indians Fee-to-Trust and Casino-Hotel Project,” on the first page of your written comments.

Locations Where the FEIS is Available for Review: The FEIS will be available for review at the San Bernardino County Public Library- Barstow Branch, 304 East Buena Vista, Barstow, CA 92311; and the San Diego County Public Library-Borrego Springs, 587 Palm Canyon, #125, Borrego Springs, CA 92004. General information for the San Bernardino County Public Library—Barstow Branch can be obtained by calling (760) 256-4850; information for the San Diego County Public Library- Borrego Springs can be obtained by calling (760) 767-5761. The FEIS is also available on the following Web site: http://www.loscoyoteseis.com.

To obtain a compact disk copy of the FEIS, please provide your name and address in writing to John Rydzik, Chief, Division of Environmental Cultural Resources Management and Safety listed in the FOR FURTHER INFORMATION CONTACT section of this notice or by email to john.rydzik@bia.gov. Individual paper copies of the FEIS can also be provided upon payment of applicable printing expenses by the requestor for the number of copies requested.

Public Comment Availability: Comments, including names and addresses of respondents, will be available for public review at the BIA mailing address shown in the ADDRESSES section of this notice, during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Sec. 46.305 of the Department of Interior Regulations (43 CFR part 46), implementing the procedural requirements of the NEPA of 1969, as amended (42 U.S.C. 4371, et seq.), and is in the exercise of authority delegated to the Assistant Secretary—Indian Affairs by 209 DM 8.

Dated: April 8, 2014.
Kevin K. Washburn,
Assistant Secretary—Indian Affairs.

[FR Doc. 2014-08515 Filed 4-17-14; 8:45 am]

BILLING CODE 4310-W7-P